DEPARTMENT OF ENERGY

Federal Energy Regulatory Commission

Combined Notice of Filings #1

July 25, 2006.

Take notice that the Commission received the following electric corporate filings:

Docket Number: EC06-129-000.

Applicants: Capital Research and Management Company.

Description: Capital Research and Management Co submits additional materials to their 6/1/06 application for authorization to acquire securities.

Filed Date: 07/21/2006.

Accession Number: 20060725-0108.

Comment Date: 5 p.m. Eastern Time on Friday, August 11, 2006.

Take notice that the Commission received the following electric rate filings:

Docket Number: ER05-406-001; EL02-15-000.

Applicants: Williams Power Company, Inc.

Description: Williams Power Company, Inc. submits an Electric Refund Report in compliance with Offer of Settlement issued 3/21/06.

Filed Date: 07/20/2006.

Accession Number: 20060720-5050.

Comment Date: 5 p.m. Eastern Time on Thursday, August 10, 2006.

Docket Number: ER05-1129-001.

Applicants: Rockingham Power, LLC.

Description: Rockingham Power LLC submits its response in compliance with the Commission's Order issued 6/21/06.

Filed Date: 07/21/2006.

Accession Number: 20060725-0061.

Comment Date: 5 p.m. Eastern Time on Friday, August 11, 2006.

Docket Number: ER05-1396-002.

Applicants: Covanta Essex Company.

Description: Covanta Essex Co submits its triennial market power update report.

Filed Date: 04/18/2006.

Accession Number: 20060426-0248.

Comment Date: 5 p.m. Eastern Time on Friday, August 04, 2006.

Docket Number: ER06-1205-001.

Applicants: 330 Fund I, L.P.

Description: 330 Fund I, LP submits supplemental information to its initial rate application filed 6/30/06.

Filed Date: 07/21/2006.

Accession Number: 20060721-5065.

Comment Date: 5 p.m. Eastern Time on Friday, August 04, 2006.

Docket Number: ER06-1232-001.

Applicants: EPIC NJ/PA, L.P.

Description: EPIC NJ/PA, LP submits an amendment to its application for market based rate authority filed 7/6/06.

Filed Date: 07/21/2006.

Accession Number: 20060725-0065.

Comment Date: 5 p.m. Eastern Time on Friday, August 11, 2006.

Docket Numbers: ER06-1264-000; EL06-74-000.

Applicants: Generation Power, Inc.

Description: Generation Power, Inc. submits a Motion to Terminate Market-Based Rate Authority and To Terminate Proceedings.

Filed Date: 07/10/2006.

Accession Number: 20060709-5001.

Comment Date: 5 p.m. Eastern Time on Monday, July 31, 2006.

Docket Number: ER06-1271-000.

Applicants: PJM Interconnection, L.L.C.

Description: PJM Interconnection, LLC submits a report of the recommended allocations of cost responsibility for transmission upgrades and revised tariffs sheets to Schedule 12-appendix of the Tariff.

Filed Date: 07/21/2006.

Accession Number: 20060725-0066.

Comment Date: 5 p.m. Eastern Time on Friday, August 11, 2006.

Docket Number: ER06-1272-000.

Applicants: Reliant Energy Power Supply, LLC.

Description: Reliant Energy Power Supply, LLC submits its application for an order accepting rates, Electric Tariff, Original Volume 1, for filing and for certain waivers and blanket approvals.

Filed Date: 07/21/2006.

Accession Number: 20060725-0106.

Comment Date: 5 p.m. Eastern Time on Friday, August 11, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-12260 Filed 7-28-06; 8:45 am]

BILLING CODE 6717-01-P